NUCLEAR REGULATORY COMMISSION

[NRC-2018-0206]

Protection Against Malevolent Use of Vehicles at Nuclear Power Plants

AGENCY: Nuclear Regulatory Commission.

ACTION: Regulatory guide; withdrawal.

SUMMARY: The U.S. Nuclear Regulatory Commission (NRC) is withdrawing Regulatory Guide (RG) 5.68, “Protection against Malevolent use of Vehicles at Nuclear Power Plants,” dated August 1994. This document is being withdrawn because it is outdated and has been superseded by other NRC guidance. Therefore, it no longer provides methods that the NRC staff finds acceptable to protect against the malevolent use of vehicles as a means to gain unauthorized access to protected areas and vital areas and to ensure that these vehicles are operated only by authorized persons with a legitimate need for access.

DATES: The effective date of the withdrawal of RG 5.68 is September 20, 2018.

ADDRESSES: Please refer to Docket ID NRC-2018-0206 when contacting the NRC about the availability of information regarding this document. You may obtain publicly-available information related to this document using any of the following methods:

• Federal Rulemaking Website: Go to http://www.regulations.gov and search for Docket ID NRC-2018-0206. Address questions about NRC dockets in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The basis for withdrawal of RG 5.68 is available in ADAMS under Accession No. ML18187A345.

• NRC's PDR: You may examine and purchase copies of public documents at the NRC's PDR, Room O1-F21, One White Flint North, 11555 Rockville Pike, Rockville, Maryland 20852.

FOR FURTHER INFORMATION CONTACT: Bernard Stapleton, telephone: 301-287-3532, email: Bernard.Stapleton@nrc.gov, or Mekonen Bayssie, telephone: 301-415-1699, email: Mekonen.Bayssie@nrc.gov; U.S. Nuclear Regulatory Commission, Washington, DC 20555-0001. Both are staff of the U.S. Nuclear Regulatory Commission, Washington, DC 20555-0001.

SUPPLEMENTARY INFORMATION:

I. Background

The NRC is withdrawing RG 5.68, “Protection against Malevolent use of Vehicles at Nuclear Power Plants,” because the guidance contained in the document is outdated, has been superseded by new guidance, and therefore is no longer acceptable to meet NRC regulatory requirements. In particular, on March 27, 2009, the NRC issued a revised rule that enhanced the security requirements pertaining to nuclear power plants to incorporate requirements that were issued through Commission orders as a result of the September 11, 2001, terrorist attacks (74 FR 13925). In addition, the rulemaking added several new requirements consistent with insights gained from implementation of the orders, review of site security plans, implementation of the enhanced baseline inspection program, and NRC evaluation of force-on-force exercises. Since RG 5.68 was published in August 1994, it does not account for the updated requirements of 10 CFR part 73. As a result, the guidance in RG 5.68 is outdated. In addition, the NRC is withdrawing RG 5.68 because it has been superseded by updated guidance that can be found in other regulatory documents. These documents provide licensees with acceptable approaches to address various issues, including vehicle access controls, use of explosives, target set identification and the appropriate use of vehicles.

II. Further Information

The withdrawal of RG 5.68 does not alter any prior or existing NRC licensing approval or the acceptability of licensee commitments made in accordance with the withdrawn guidance. Although RG 5.68 is withdrawn, current licensees referencing this RG may continue to do so, and withdrawal does not affect any existing licenses or agreements. However, by withdrawing RG 5.68, the NRC will no longer approve use of the guidance in future requests or applications for NRC licensing actions.

Dated at Rockville, Maryland, this 17th day of September, 2018.
For the Nuclear Regulatory Commission.
Thomas H. Boyce,
Chief, Regulatory Guidance and Generic Issues Branch, Division of Engineering, Office of Nuclear Regulatory Research.

[FR Doc. 2018-20476 Filed 9-19-18; 8:45 am]

BILLING CODE 7590-01-P